ENVIRONMENTAL PROTECTION AGENCY

[FRL-8737-7]

Clean Water Act Section 303(d): Final Agency Action on 29 Total Maximum Daily Loads (TMDLs) in Louisiana

AGENCY: Environmental Protection Agency (EPA).

ACTION: Notice of availability.

SUMMARY: This notice announces final agency action on 29 TMDLs prepared by EPA Region 6 for waters listed in Louisiana's Pearl River basin, under section 303(d) of the Clean Water Act (CWA). Documents from the administrative record file for the 29 TMDLs, including TMDL calculations and responses to comments, may be viewed at http://www.epa.gov/region6/water/npdes/tmdl/index.htm. The administrative record file may be examined by calling or writing Ms. Diane Smith at the address below. Please contact Ms. Smith to schedule an inspection.

FOR FURTHER INFORMATION CONTACT: Diane Smith, Environmental Protection Specialist, Water Quality Protection Division, U.S. EPA Region 6, 1445 Ross Avenue, Dallas, TX 75202-2733, (214) 665-2145.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, plaintiffs alleged that EPA failed to establish Louisiana TMDLs in a timely manner. EPA established 18 of these TMDLs pursuant to a consent decree entered in this lawsuit.

EPA Takes Final Agency Action on 29 TMDLs

By this notice EPA is taking final agency action on the following 29 TMDLs for waters located within the Louisiana Pearl River basin:

Subsegment | Waterbody name | Pollutant
090101 | Pearl River—MS State Line to Pearl River Navigation Canal | Mercury and Fecal coliform.
090102 | East Pearl River—Holmes Bayou to I-10 | Mercury.
090103 | East Pearl River—From I-10 to Lake Borgne (estuarine) | Mercury.
090104 | Peters Creek | Fecal coliform.
090105 | Pearl River Navigation Canal—From Pools Bluff to Lock No. 3 | Mercury and Dissolved oxygen.
090106 | Holmes Bayou—From the Pearl River to the West Pearl River (scenic) | Mercury and Turbidity.
090107 | Pearl River—From Pearl River Navigation Canal to Holmes Bayou | Mercury.
090201 | West Pearl River—From Headwaters to confluence with Holmes Bayou (scenic) | Mercury and Turbidity.
090202 | West Pearl River | Turbidity.
090202-5126 | Morgan River—From Porters River to its confluence with Pearl River (scenic) | Mercury.
090203 | Lower Bogue Chitto—From River Navigation Canal to Wilsons Slough | Mercury.
090204 | Pearl River Navigation Canal—Below Lock No. 3 | Mercury and Dissolved oxygen.
090205 | Wilson Slough—Bogue Chitto to West Pearl River | Mercury.
090206 | Bradley Slough—Bogue Chitto to West Pearl River | Mercury.
090207 | Middle Pearl River and West Middle Pearl River—From West Pearl River to Little Lake | Mercury and Dissolved oxygen.
090207-5112 | Morgan Bayou—Headwaters near I-10 to confluence with Middle River | Mercury.
090301 | Pushepatapa Creek | Fecal coliform.
090401 | Bogue Lusa Creek | Fecal coliform.
090501 | Bogue Chitto River—From MS State Line to Pearl River Navigation Canal (scenic) | Mercury and Turbidity.
090502 | Big Silver Creek | Fecal coliform.
090505 | Bonner Creek | Fecal coliform.
090506 | Thigpen Creek | Fecal coliform.

EPA requested the public to provide EPA with any significant data or information that might impact the 29 TMDLs in the Federal Register Notices: Volume 72, number 137, page 39420 (July 18, 2007) and volume 73, number 22, pages 6178 and 6179 (February 1, 2008). The comments which were received, the EPA's response to comments, and the TMDLs may be found at http://www.epa.gov/region6/water/npdes/tmdl/index.htm.

Dated: October 28, 2008.
Larry D. Wright,
Acting Director, Water Quality Protection Division, EPA Region 6.

[FR Doc. E8-26262 Filed 11-3-08; 8:45 am]

BILLING CODE 6560-50-P